DEPARTMENT OF THE INTERIOR

Bureau of Land Management

[OR-930-6333 PH COMP, HAG 4-0161]

Notice of Availability of Record of Decision for the Resource Management Plan (RMP) Amendment/Supplemental Environmental Impact Statement (SEIS) for Management of Port-Orford-Cedar in Southwest Oregon

AGENCY: Bureau of Land Management (BLM).

ACTION: Notice of Availability (NOA) of Record of Decision (ROD).

SUMMARY: In accordance with the National Environmental Policy Act (NEPA), the Federal Land Policy and Management Act (FLPMA), and BLM management policies, the BLM announces the availability of the ROD/RMP Amendment for Management of Port-Orford-Cedar in Southwest Oregon, affecting the Coos Bay, Medford, and Roseburg Districts. The Oregon State Director will sign the ROD/RMP Amendment, which becomes effective immediately.

FOR FURTHER INFORMATION CONTACT: Ken Denton, SEIS Team Leader, P.O. Box 2965, Portland, Oregon 97208, telephone (503) 326-2368, e-mail Ken_Denton@or.blm.gov, or visit the SEIS Web site at http://www.or.blm.gov/planning/Port-Orford-Cedar_SEIS/.

SUPPLEMENTARY INFORMATION: Port-Orford-cedar is killed by an exotic root disease (Phytophthora lateralis) that is linked, at least in part, to transport of spore-infested mud by humans and animals. Water-borne spores then readily spread the disease down slope and down stream.

The Management of Port-Orford-Cedar in Southwest Oregon ROD/RMP Amendment was developed with public participation through a year-long planning process. This ROD/RMP Amendment, together with a similar one signed by the Forest Service in March, 2004, addresses management on approximately 270,000 acres of Port-Orford-cedar stands in the planning area. The ROD/RMP Amendment will help maintain Port-Orford-cedar as an ecologically and economically significant species on BLM lands. It includes a series of generally required actions, actions that can be applied to specific projects when there is a management risk to Port-Orford-cedar, and an emphasis on keeping the disease out of uninfested watersheds.

The Port-Orford-cedar RMP Amendment is essentially the same as Alternative 2 in the Proposed RMP Amendment/Final SEIS published on January 23, 2004 (see Notice of Availability, Federal Register, p. 3340). The BLM received five protests to the Proposed Amendment/Final SEIS. As a result of the protests, minor modifications were made in preparing the ROD/RMP Amendment. These modifications adopted a mitigation measure described in the SEIS, adopted NOAA-Fisheries consultation recommendations for monitoring and examining stream temperatures, corrected errors that were noted during review of the Proposed Amendment/Final SEIS, and provide further clarification for the decision. No inconsistencies with state or local plans, policies, or programs were identified during the Governor's Consistency Review of the Proposed Amendment/Final SEIS.

Judy Ellen Nelson,
Acting Associate State Director, Oregon and Washington, Bureau of Land Management.

[FR Doc. 04-10916 Filed 5-11-04; 11:31 am]

BILLING CODE 4310-33-P